DEPARTMENT OF COMMERCE

International Trade Administration

[A-570-918]

Steel Wire Garment Hangers From the People's Republic of China: Extension of Time Limits for Preliminary Results of the Second Antidumping Duty Administrative Review

AGENCY: Import Administration, International Trade Administration, Department of Commerce.

DATES: Effective Date: May 19, 2011.

FOR FURTHER INFORMATION CONTACT: Bob Palmer or Jamie Blair-Walker, AD/CVD Operations, Office 9, Import Administration, International Trade Administration, U.S. Department of Commerce, 14th Street and Constitution Avenue, NW., Washington DC 20230; telephone: (202) 482-9068 or (202) 482-2615, respectively.

Background

On November 29, 2010, the Department of Commerce (“the Department”) published in the Federal Register a notice of initiation of an administrative review of the antidumping duty order on steel wire garment hangers from the People's Republic of China (“PRC”) covering the period, October 1, 2009, through September 31, 2010.¹

¹ See Initiation of Antidumping and Countervailing Duty Administrative Reviews, 75 FR 73036 (November 29, 2010).

On January 21, 2011, the Department selected Shanghai Wells Hanger Co., Ltd. (“Shanghai Wells”) and Jiaxing Boyi Medical Device Co. (“Jiaxing Boyi”) as mandatory respondents in the above referenced review.² On January 24, 2011, we issued our non-market economy antidumping questionnaire to Shanghai Wells and Jiaxing Boyi. As stated in the cover letter of our questionnaire, the deadlines for Section A was February 10, 2011, and for Sections C & D were February 26, 2011.³ Jiaxing Boyi did not respond to the Department's Section A questionnaire by the stated deadline and did not request an extension.

² See Memorandum to Jim Doyle, Director, Office 9, Import Administration, from Irene Gorelik, Senior International Trade Compliance Analyst, Office 9, regarding the Second Administrative Review of Steel Wire Garment Hangers from the People's Republic of China: Selection of Respondents for Individual Review (January 21, 2011).

³ See Letters to Shanghai Wells and Jiaxing Boyi from Catherine Bertrand, Program Manager, Office 9, Import Administration; regarding the Antidumping Duty Administrative Review of Steel Garment Wire Hangers from the People's Republic of China: Non-Market Economy Questionnaire (January 21, 2011).

On February 24, 2011, we selected an additional mandatory respondent, Shaoxing Liangbao Metal Manufactured Co., Ltd. (“Shaoxing Liangbao”) as a replacement for Jiaxing Boyi.⁴ Shaoxing Liangbao's response to Section A was due on March 26, 2011.⁵ However, Shaoxing Liangbao did not submit a response by the stated deadline or request an extension.

⁴ See Memorandum to Jim Doyle, Director, Office 9, Import Administration, from Jamie Blair-Walker, International Trade Compliance Analyst, Office 9, regarding the Second Administrative Review of Steel Wire Garment Hangers from the People's Republic of China: Selection of Additional Mandatory Respondent (February 24, 2011).

⁵ See Letter to Shaoxing Liangbao from Catherine Bertrand, Program Manager, Office 9, Import Administration; regarding the Antidumping Duty Administrative Review of Steel Garment Wire Hangers from the People's Republic of China: Non-Market Economy Questionnaire (February 24, 2011).

On March 28, 2011, as a replacement for Shaoxing Liangbo, we selected another additional mandatory respondent, Pu Jiang County Command Metal Products Co., Ltd. (“Command Metal Products”).⁶ However, Command Metal Products did not submit a response, or request an extension, to the Department's Section A questionnaire by the deadline, April 18, 2011.⁷

⁶ See Memorandum to Jim Doyle, Director, Office 9, Import Administration, from Jamie Blair-Walker, International Trade Compliance Analyst, Office 9, regarding the Second Administrative Review of Steel Wire Garment Hangers from the People's Republic of China: Selection of Additional Mandatory Respondent (March 28, 2011).

⁷ See Letter to Command Metal Products from Catherine Bertrand, Program Manager, Office 9, Import Administration regarding the Antidumping Duty Administrative Review of Steel Garment Wire Hangers from the People's Republic of China: Non-Market Economy Questionnaire (March 28, 2011).

On April 29, 2011, we selected an additional two mandatory respondents, Shaoxing Guochao Metal Products Co., Ltd. (“Guochao Metal Products”) and Yiwu Ao-Si Metal Products Co., Ltd. (“Yiwu”).⁸ The current deadlines for Guochao Metal Products' and Yiwu to submit their Section A responses are May 23, 2011, and June 8, 2011, for their Section C and D questionnaire responses.⁹ The preliminary results of this administrative review are currently due on July 3, 2011.

⁸ See Memorandum to Jim Doyle, Director, Office 9, Import Administration, from Jamie Blair-Walker, International Trade Compliance Analyst, Office 9, regarding the Second Administrative Review of Steel Wire Garment Hangers from the People's Republic of China: Selection of Additional Mandatory Respondent (April 29, 2011).

⁹ See Letter to Guochao Metal Products from Catherine Bertrand, Program Manager, Office 9, Import Administration regarding the Antidumping Duty Administrative Review of Steel Garment Wire Hangers from the People's Republic of China: Non-Market Economy Questionnaire (May 2, 2011); see also Letter to Yiwu from Catherine Bertrand, Program Manager, Office 9, Import Administration regarding the Antidumping Duty Administrative Review of Steel Garment Wire Hangers from the People's Republic of China: Non-Market Economy Questionnaire (May 2, 2011).

Statutory Time Limits

Section 751(a)(3)(A) of the Tariff Act of 1930, as amended (“the Act”), requires the Department to issue the preliminary results of an administrative review within 245 days after the last day of the anniversary month of an order for which a review is requested. Consistent with section 751(a)(3)(A) of the Act, the Department may extend the 245-day period to 365 days if it is not practicable to complete the review within a 245-day period.

Extension of Time Limit of Preliminary Results

The preliminary results are currently due on July 3, 2011. This administrative review now covers three mandatory respondents and requires that the Department gather and analyze a significant amount of information pertaining to each of these companies. Moreover, because several previously selected mandatory respondents were unresponsive, the Department went through numerous rounds of selecting additional replacement mandatory respondents. Thus, the Department requires additional time to fully analyze the initial questionnaire responses and issue supplemental questionnaires prior to the preliminary results. This extension is also necessary to give all parties to the proceeding adequate time to supply the Department with information related to the mandatory respondents' factors of production. The current date of the preliminary results does not afford the Department adequate time to gather, analyze, request supplementary information, and allow parties to fully participate in the proceeding.

Therefore, in accordance with section 751(a)(3)(A) of the Act, the Department finds that it is not practicable to complete the preliminary results within the original time period and thus the Department is extending the time limit for issuing the preliminary results by 120 days until October 31, 2011. The final results continue to be due 120 days after the publication of the preliminary results.

This notice is published pursuant to section 777(i) of the Act.

Dated: May 12, 2011.
Christian Marsh,
Deputy Assistant Secretary for Antidumping and Countervailing Duty Operations.

[FR Doc. 2011-12341 Filed 5-18-11; 8:45 am]

BILLING CODE 3510-DS-P